SMALL BUSINESS ADMINISTRATION

Reporting and Recordkeeping Requirements Under OMB Review

AGENCY: Small Business Administration

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before October 30, 2020.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: You may obtain a copy of the information collection and supporting documents from the Agency Clearance Officer.

SUPPLEMENTARY INFORMATION: Section 7(b) of the Small Business Act, 15 U.S.C. 636, as amended, authorizes the Small Business Administration to make disaster loans to businesses and nonprofit organizations, including loans for economic injury. The Coronavirus Preparedness and Response Supplemental Appropriations Act, 2020, Public Law 116-123 (March 6, 2020), amended the Small Business Act to make economic injury resulting from the current coronavirus pandemic (COVID-19) a disaster that is eligible for assistance under section 7(b) of the Small Business Act. The forms described below are used to collect information from eligible small businesses, including sole proprietors, independent contractors, and agricultural businesses, and also nonprofit organizations seeking financial assistance under this program.

Summary of Information Collection

Title: Economic Injury Disaster Loan Application (EIDL) COVID-19.

OMB Control Number: 3245-0406.

Respondents: Small businesses, including sole proprietors, independent contractors, and agricultural businesses, and nonprofit organizations.

Form Numbers: SBA Form 3501 through Form 3503.

(i) Form 3501, EID-COVID19 Application.

Estimated number of respondents/responses: 17,000,000.

Estimated Response time 30 minutes.

Estimated annual hour burden = 8,500,000 hours.

(ii) Form 3502—Economic Injury Disaster Loan Supporting Information.

Estimated number of respondents/responses: 17,000,000.

Estimated Response time: 1 hour.

Estimated annual hour burden: 17,000,000 hours.

(iii) Form 3503—Self-Certification for Verification of Eligible Entity for Economic Injury Disaster Loan.

Estimated number of respondents/responses: 17,000,000.

Estimated Response time: 10 minutes.

Estimated annual hour burden: 2,833,333 hours.

Curtis Rich,
Management Analyst.

[FR Doc. 2020-21571 Filed 9-29-20; 8:45 am]

BILLING CODE 8026-03-P